DEPARTMENT OF VETERANS AFFAIRS

Rental and Utility Assistance for Certain Low-Income Veteran Families

AGENCY: Department of Veterans Affairs.

ACTION: Notice.

SUMMARY: The Supportive Services for Veteran Families (SSVF) Program has enabled grantees to augment available housing options for homeless Veterans in high-rent burden communities by increasing the rental assistance for up to 2 years before recertification. This notice will establish locations where the SSVF grantees can place Veterans in housing with this rental subsidy.

DATES: SSVF grantees can place Veterans in housing with the rental subsidy described in title 38 Code of Federal Regulations (CFR) section 62.34(a)(8) effective October 1, 2019.

FOR FURTHER INFORMATION CONTACT: John Kuhn, Homeless Program Office, Supportive Services for Veteran Families Program Office, 810 Vermont Avenue NW, Washington, DC 20420, (202) 632-8596. (This is not a toll-free number.)

SUPPLEMENTARY INFORMATION: In a document published in the Federal Register on August 28, 2019, the Department of Veterans Affairs published a final rule, which revised its regulations that govern the SSVF Program, which are authorized under section 2044 of title 38 United States Code (U.S.C.). 84 FR 45074. This rule, which amended 38 CFR 62.34(a)(6) and (8), extends the ability of SSVF grantees to provide rental assistance in certain areas where the limited availability of affordable housing makes it difficult to reduce a community's population of homeless Veterans.

Through the provision of these subsidies, the pool of available housing can be expanded as program participants have access to a broader rental market. Section 62.34(a)(8) states that extremely low-income Veteran families and very low-income Veteran families who meet the criteria of § 62.11 may be eligible to receive a rental subsidy for a 2-year period without recertification. Section 62.34(a)(8) further states that the applicable counties will be published annually in the Federal Register. This notice provides the eligible counties for Fiscal Year 2020.

Locations: This rental subsidy will be available in the District of Columbia and the following counties:

California: Los Angeles, San Francisco, Alameda, San Diego, Santa Clara, and Contra Costa

Washington: King

Hawaii: Honolulu

Illinois: Cook

New York: New York, Bronx, Queens, Kings, and Richmond

Signing Authority

The Secretary of Veterans Affairs, or designee, approved this document and authorized the undersigned to sign and submit the document to the Office of the Federal Register for publication electronically as an official document of the Department of Veterans Affairs. Pamela Powers, Chief of Staff, Department of Veterans Affairs, approved this document on September 30, 2019, for publication.

Dated: September 30, 2019.
Luvenia Potts,
Regulation Development Coordinator, Office of Regulation Policy & Management, Office of the Secretary, Department of Veterans Affairs.

[FR Doc. 2019-21607 Filed 10-3-19; 8:45 am]

BILLING CODE 8320-01-P